DEPARTMENT OF ENERGY

Federal Energy Regulatory Commission

Notice of Intent To File Application for a New License

October 30, 2002.

Take notice that the following notice of intent has been filed with the Commission and is available for public inspection:

a. Type of filing: Notice of Intent To File an Application for New License.

b. Project No: 2085.

c. Date filed: October 9, 2002.

d. Submitted By: Southern California Edison Company.

e. Name of Project: Mammoth Pool Project.

f. Location: Mammoth Pool is located on the main sterm of the Upper San Joaquin River, bordering Madera and Fresno Counties, California.

g. Filed Pursuant to: Section 15 of the Federal Power Act, 18 CFR 16.6.

h. Pursuant to Section 16.19 of the Commission's regulations, the licensee is required to make available the information described in Section 16.7 of the regulations. Such information is available from the licensee at the Northern Hydro Regional Office, 54205 Mountain Poplar Road, Big Creek, California 93605.

i. FERC Contact: James Fargo, 202-502-6095, james.fargo@ferc.gov.

j. Expiration Date of Current License: November 30, 2007.

k. Project Description: A storage dam, reservoir, dam outlet works including a 938 kilowatts(kw) fishwater generator, tunnel and penstock, and a powerhouse containing two turbines with two 95,000kw generators.

l. The licensee states its unequivocal intent to submit an application for a new license for Project No. 2085 Pursuant to 18 CFR 16.9(b)(1), each application for a new license and any competing license applications must be filed with the Commission at least 24 months prior to the expiration of the existing license. All applications for license for this project must be filed by November 30, 2005.

A copy of the application is available for review at the Commission in the Public Reference Room or may be viewed on the Commission's Web site at http://www.ferc.gov using the “FERRIS” link. Enter the docket number excluding the last three digits in the docket number field to access the document. For assistance, For assistance, please contact FERC Online Support at fercolinesuport@ferc.gov. or toll-free at (866) 208-3676, or for TTY, contact (202) 502-8659. A copy is also available for inspection and reproduction at the address in item h above.

Linwood A. Watson, Jr.,
Deputy Secretary.

[FR Doc. 02-28170 Filed 11-4-02; 8:45 am]

BILLING CODE 6717-01-P